DEPARTMENT OF LABOR

Employment and Training Administration

Investigations Regarding Certifications of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address show below, not later than December 9, 2002.

Interested persons are invited to submit written comments regarding the subject matter of the investigations to the Director, Division of Trade Adjustment Assistance, at the address shown below, not later than December 9, 2002.

The petitioners filed in this case are available for inspection at the Office of the Director, Division of Trade Adjustment Assistance, Employment and Training Administration, U.S. Department of Labor, Room C-5311, 200 Constitution Avenue, NW., Washington, DC 20210.

Signed in Washington, DC this 1st day of November, 2002.
Edward A. Tomchick,
Director, Division of Trade Adjustment Assistance.

APPENDIX
[Petitions Instituted on 11/01/2002]
TA-W | Subject firm (petitioners) | Location | Date of petition | Products(s)
42,314 | NCS Pearson (Comp) | Mesa, AZ | 10/21/2002 | software development.
42,315 | Alcatel USA, Inc. (Wkrs) | Plano, TX | 10/18/2002 | wireless telephone switches.
42,316 | Augusta Mills (Comp) | Elkton, VA | 10/15/2002 | bed sheets and pillow cases.
42,317 | Boise Cascade (PACE) | Jackson, AL | 10/15/2002 | pine lumber.
42,318 | Eagle Clothing Co. (Wkrs) | Los Angeles, CA | 10/15/2002 | clothing.
42,319 | Spicer Driveshaft Manufacturing, Inc. (Wkrs) | Atkins, VA | 10/17/2002 | automotive drivetrain components.
42,320 | Apache Corporation (Wkrs) | Houston, TX | 10/14/2002 | oil and gas.
42,321 | Boxboard Packaging Co. (Wkrs) | Norwalk, OH | 09/30/2002 | printed folding cartons.
42,322 | Kelly Services, Inc (Wkrs) | San Diego, CA | 10/17/2002 | stuffing services..
42,323 | Armstone Div., PermaGrain Products (Comp) | Newtown Square, PA | 10/15/2002 | artificial marble (tile).
42,324 | United Plastics Group (Comp) | Bensenville, IL | 10/16/2002 | plastic molded parts.
42,325 | U.S. Repeating Arms Co. (IAM) | New Haven, CT | 10/17/2002 | rifles and shotguns.
42,326 | Micro C Technologies, Inc (Comp) | Grand Rapids, MI | 10/22/2002 | semiconductor capitol equipment.
42,327 | Aspen International (Wkrs) | Salem, OR | 10/15/2002 | cable TV maps.
42,328 | Stratex Networks, Inc. (Comp) | San Jose, CA | 10/09/2002 | telecommunications equipment.
42,329 | International Hosiery Network, LLC (Wkrs) | Hickory, NC | 10/21/2002 | cotton socks—men and women.
42,330 | Alcoa Inc. (UAW) | Cleveland, OH | 11/01/2002 | aluminum wheels.
42,331 | PHB Die Casting (USWA) | Fairview, PA | 10/15/2002 | die casting parts.
42,332 | Parker Hannifin Corp. (Wkrs) | Andover, OH | 10/22/2002 | gas turbine engine fuel nozzles.
42,333 | Dunbrooke Sportswear (Wkrs) | El Dorado Spgs, MO | 10/21/2002 | jackets.
42,334 | Pine State Knitwear Co. (Wkrs) | Mount Airy, NC | 10/21/2002 | yarn.
42,335 | Trans World Connections, Ltd (Comp) | Lynchburg, VA | 10/21/2002 | cable harnesses.
42,336 | Power-One (Wkrs) | Andover, MA | 10/15/2002 | DE power converters.
42,337 | Corning Cable Systems (Wkrs) | Hickory, NC | 10/21/2002 | connectorized cables.
42,338 | Kane Handle Co. (USWA) | Kane, PA | 10/14/2002 | wood handles for garden tools.
42,339 | Doyle Shirt Manufacturing (Wkrs) | Doyle, TN | 10/24/2002 | career uniforms.
42,340 | Titan Wheel Corp. of Va (Comp) | Saltville, VA | 10/25/2002 | wheel and tire assemblies, mining wheels.
42,341 | Pomona Paper Company (AWPPW) | Pomona, CA | 10/24/2002 | linerboard.
42,342 | Auburn Hosiery Mills, Inc. (Comp) | Auburn, KY | 10/17/2002 | athletic socks.
42,343 | Frolic Footwear (Wkrs) | Monette, AR | 10/23/2002 | shoes.
42,344 | Hitachi High Technologies America, Inc. (Comp) | San Jose, CA | 09/27/2002 | uv spectrophotometers, blood analyzers.
42,345 | General Electric Industrial Systems (Comp) | Plainville, CT | 10/07/2002 | fabrication load centers and switches.
42,346 | Haemer-Wright Tool and Die, Inc. (Wkrs) | Saegertown, PA | 07/22/2002 | dies and molds.
42,347 | Shur-Line (Comp) | Johnson City, TN | 10/08/2002 | paint brushes.
42,348 | Lexington Home Brands (Comp) | Mocksville, NC | 10/30/2002 | furniture.
42,349 | Peak Storage Solutions (Wkrs) | Louisville, CO | 10/23/2002 | data storage.
42,350 | Partex Apparel Mfg., Inc (Comp) | Medley, FL | 10/24/2002 | private label, sports apparel.
42,351 | Johnstown Corporation (USWA) | Johnstown, PA | 10/31/2002 | steel castings.
42,352 | Pacific Electricord (Wkrs) | Gardana, CA | 10/10/2002 | cord sets, extension cords.
42,353 | Cerf Brothers Bag Company (Wkrs) | New London, MO | 10/29/2002 | nylon duffle bags, canvas duffle bags.
42,354 | Kalmar Industries Corp. (Wkrs) | White Oak, TX | 10/25/2002 | terminal tractors.
42,355 | Ferro Corporation (GMPPAW) | East Liverpool, OH | 10/23/2002 | ceramic grinding media. .
42,356 | Hynix Semiconductor America, Inc. (Comp) | San Jose, Ca | 10/08/2002 | flash memory products.
42,357 | ConsolEnergy (Wkrs) | Sesser, IL | 10/28/2002 | coal.
42,358 | Pratt and Whitney (Comp) | Claremore, Ok | 10/30/2001 | jet engine, components.
42,359 | Allegheny Ludlum Washington Plate (USWA) | Washington, PA | 11/01/2002 | steel plate, products.

[FR Doc. 02-30062 Filed 11-26-02; 8:45 am]

BILLING CODE 4510-30-M